DEPARTMENT OF AGRICULTURE

Forest Service

Glenn-Colusa County Resource Advisory Committee

AGENCY: Forest Service, USDA.

ACTION: Notice of meeting.

SUMMARY: The Glenn-Colusa County Resource Advisory Committee (RAC) will meet in Willows, California. Agenda items to be covered include: (1) Introductions, (2) Report from Designated Federal Official, (3) Public Comment, (4) 2009 Meeting Schedule, (5) Report on Media Releases, (6) General Discussion, (7) Next Agenda.

DATES: The meeting will be held on February 23, 2009 from 1 p.m. and end at approximately 4:30 p.m.

ADDRESSES: The meeting will be held at the Forest Service Grindstone Ranger Station Office located at 825 N. Humboldt Ave., Willows, CA. Individuals wishing to speak or propose agenda items must send their names and proposals to Eduardo Olmedo, Designated Federal Official (DFO), 825 N. Humboldt Ave., Willows, CA 95988.

FOR FURTHER INFORMATION CONTACT: Eduardo Olmedo, DFO, USDA, Mendocino National Forest, Grindstone Ranger District, 825 N. Humboldt Ave., Willows, CA 95988. (530) 934-3316; e-mail eolmedo@fs.fed.us.

SUPPLEMENTARY INFORMATION: The meeting is open to the public. Committee discussion is limited to Forest Service staff and Committee members. However, persons who wish to bring matters to the attention of the Committee may file written statements with the Committee staff before or after the meeting. Public input sessions will be provided and individuals who made written requests by February 7, 2009 will have the opportunity to address the committee at those sessions.

Dated: January 6, 2009.
Eduardo Olmedo,
Designated Federal Official.

[FR Doc. E9-455 Filed 1-13-09; 8:45 am]

BILLING CODE 3410-11-M